Proclamation 8429 of October 1, 2009

National Information Literacy Awareness Month, 2009

By the President of the United States of America

A Proclamation

Every day, we are inundated with vast amounts of information. A 24-hour news cycle and thousands of global television and radio networks, coupled with an immense array of online resources, have challenged our long-held perceptions of information management. Rather than merely possessing data, we must also learn the skills necessary to acquire, collate, and evaluate information for any situation. This new type of literacy also requires competency with communication technologies, including computers and mobile devices that can help in our day-to-day decisionmaking. National Information Literacy Awareness Month highlights the need for all Americans to be adept in the skills necessary to effectively navigate the Information Age.

Though we may know how to find the information we need, we must also know how to evaluate it. Over the past decade, we have seen a crisis of authenticity emerge. We now live in a world where anyone can publish an opinion or perspective, whether true or not, and have that opinion amplified within the information marketplace. At the same time, Americans have unprecedented access to the diverse and independent sources of information, as well as institutions such as libraries and universities, that can help separate truth from fiction and signal from noise.

Our Nation’s educators and institutions of learning must be aware of—and adjust to—these new realities. In addition to the basic skills of reading, writing, and arithmetic, it is equally important that our students are given the tools required to take advantage of the information available to them. The ability to seek, find, and decipher information can be applied to countless life decisions, whether financial, medical, educational, or technical.

This month, we dedicate ourselves to increasing information literacy awareness so that all citizens understand its vital importance. An informed and educated citizenry is essential to the functioning of our modern democratic society, and I encourage educational and community institutions across the country to help Americans find and evaluate the information they seek, in all its forms.

NOW, THEREFORE, I, BARACK OBAMA, President of the United States of America, by virtue of the authority vested in me by the Constitution and the laws of the United States, do hereby proclaim October 2009 as National Information Literacy Awareness Month. I call upon the people of the United States to recognize the important role information plays in our daily lives, and appreciate the need for a greater understanding of its impact.

IN WITNESS WHEREOF, I have hereunto set my hand this first day of October, in the year of our Lord two thousand nine, and of the Independence of the United States of America the two hundred and thirty-fourth.

[FR Doc. E9-24290

Filed 10-6-09; 8:45 am]

Billing code 3195-W9-P